DEPARTMENT OF HEALTH AND HUMAN SERVICES

Health Resources and Services Administration

Notice of a Noncompetitive Supplement and a 7-Month Extension of the Period of Support for the Frontier Extended Stay Clinic (FESC) Cooperative Agreement Recipient—SouthEast Alaska Regional Health Consortium

AGENCY: Health Resources and Services Administration (HRSA), Department of Health and Human Services.

ACTION: Notice of a Noncompetitive Supplement and a 7-Month Extension of the Period of Support for the Frontier Extended Stay Clinic (FESC) Cooperative Agreement Recipient—SouthEast Alaska Regional Health Consortium.

SUMMARY: The Health Resources and Services Administration (HRSA) will be issuing a non-competitive supplement and a 7-month extension of the period of support to the Frontier Extended Stay Clinic (FESC) Cooperative Agreement recipient of record, SouthEast Alaska Regional Health Consortium (Grant Number U17RH23237). The FESC Cooperative Agreement helps to examine the effectiveness and appropriateness of a new type of provider, FESC, in providing health care services in remote areas. The 7-month extension with funds will align with the related three-year Centers for Medicare and Medicaid Services (CMS) demonstration, which will run until March 2013.

SUPPLEMENTARY INFORMATION: The recipient of record and intended award amount is:

Grant No. | Grantee name | Grantee city | Grantee state | CFDA No. | Recommended supplemental award amount
U17RH23237 | SouthEast Alaska Regional Health Consortium | Sitka | AK | 93.912 | $700,000.00

Intended Recipient of the Award: SouthEast Alaska Regional Health Consortium.

Amount of the Award: $700,000.00.

CFDA Number: 93.912.

Project Period: September 1, 2011 through March 31, 2013.

Authority: Section 330A of the Public Health Service Act, as amended, (42 U.S.C. 254c).

Justification

The Medicare Prescription Drug Improvement and Modernization Act of 2003 (MMA) authorized CMS to conduct a demonstration program in which FESCs would be treated as Medicare providers. The CMS demonstration took several years to develop and officially began on April 1, 2010, when the first clinic site submitted the first claim to CMS. This 3-year demonstration will run until March 2013.

In 2004, Congress appropriated funds to HRSA to undertake a demonstration project that supports the development of a FESC CMS Medicare provider type. By supplementing the award to the current recipient, there will be continued support to keep the FESC sites participating through (or close to) the end of the CMS demonstration. The CMS demonstration provides payments only for FESC services provided to Medicare beneficiaries. On average, only 20 percent of FESC services are Medicare-eligible, meaning that the clinics do not receive payment for as much as 80 percent of their FESC services. HRSA funds provide support for those services that are not reimbursed by Medicare.

FOR FURTHER INFORMATION CONTACT: Aaron Fischbach, Health Resources and Services Administration, Office of Rural Health Policy, 5600 Fishers Lane, Room 5A-05, Rockville, Maryland 20852, or email afischbach@hrsa.gov.

Dated: May 30, 2012.
Mary K. Wakefield,
Administrator, Health Resources and Services Administration.

[FR Doc. 2012-13831 Filed 6-6-12; 8:45 am]

BILLING CODE 4165-15-P